TENNESSEE VALLEY AUTHORITY

Meeting No. 06-03

Time and Date: 9 a.m., June 28, 2006. TVA West Tower Auditorium, 400 West Summit Hill Drive, Knoxville, Tennessee.

Status: Open.

Agenda

Old Business

Approval of minutes of May 18, 2006, Board Meeting.

New Business

1. Report of the Finance, Strategy, and Rates Committee. A. Approval of parameters for TVA's FY 2007 Budget proposal.

2. Report of the Community Relations Committee.

3. Preliminary Report of the Operations, Environment, and Safety Committee.

4. President's Report.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: June 21, 2006.
Maureen H. Dunn,
General Counsel and Secretary.

[FR Doc. 06-5698 Filed 6-22-06; 10:50 am]

BILLING CODE 8120-08-P